DEPARTMENT OF HEALTH AND HUMAN SERVICES

Workshop: Advancing Research on Mixtures; New Perspectives and Approaches for Predicting Adverse Human Health Effects

AGENCY: National Institute of Environmental Health Sciences (NIEHS), National Institutes of Health.

ACTION: Announcement of a workshop.

SUMMARY: The NIEHS is hosting a workshop entitled “Advancing Research on Mixtures: New Perspectives and Approaches for Predicting Adverse Human Health Effects” on September 26-27, 2011 at the Sheraton Chapel Hill, Chapel Hill, NC. This workshop is organized to include plenary sessions and small group breakout sessions on specific topics. It is open to the public to attend as observers. For more information and to register for this workshop, please visit http://tools.niehs.nih.gov/conferences/dert/mixtures/. The deadline to register for this workshop is Monday, September 12, 2011. Registration is limited to 85 observers based on available space.

DATES: The workshop will be held September 26-27, 2011, and begin each day at 8:30 a.m. Eastern Daylight Time and end at 5:30 p.m. on September 26 and 4:15 p.m. on September 27. Registration for observers will close September 12, 2011.

ADDRESSES: The meeting will be held at Sheraton Chapel Hill, 1 Europa Dr., Chapel Hill, NC 27517. Meeting information is available at http://tools.niehs.nih.gov/conferences/dert/mixtures/.

FOR FURTHER INFORMATION CONTACT: Dr. Danielle Carlin, Program Administrator, Division of Extramural Research and Training, NIEHS, P.O. Box 12233, MD K3-04, Research Triangle Park, NC 27709, (telephone) 919-541-1409, (e-mail) danielle.carlin@nih.gov or Dr. Cynthia Rider, Toxicologist, Division of the National Toxicology Program, NIEHS, P.O. Box 12233, MD K2-12, Research Triangle Park, NC 27709, (telephone) 919-541-7638, (e-mail) cynthia.rider@nih.gov.

SUPPLEMENTARY INFORMATION:

Background

The NIEHS is hosting a workshop to identify and address key issues in mixtures research. For this workshop, the term “mixtures” refers to combined exposures. The NIEHS will use the results from the workshop to inform the development of an intramural and extramural mixtures research strategy. This workshop will also provide input to the scientific community for advancing mixtures research.

Preliminary Agenda and Workshop Objectives

The preliminary agenda and other information are available on the workshop Web site (http://tools.niehs.nih.gov/conferences/dert/mixtures/). The meeting is organized with plenary talks and breakout groups for in-depth discussion. The public is invited to attend the breakout groups as observers.

The objectives of this workshop are to:

• Identify and prioritize the knowledge gaps and challenges in mixtures research specific to each of the following disciplines: toxicology, epidemiology, exposure science, risk assessment, and statistics

• Obtain advice on integrating multidisciplinary capabilities to address critical topics in mixtures research

• Provide recommendations for research on key topics

• Inform the development of a long-term NIEHS mixtures research agenda

• Foster collaborations between extramural and NIEHS scientists

Registration

This workshop is open to the public for attendance as observers. Registration is available on-line (http://tools.niehs.nih.gov/conferences/dert/mixtures/). The registration deadline is September 12, 2011; however, registration will close sooner if the 85 spaces for observers are filled. At that time, persons wishing to attend the workshop will be placed on a wait list.

Individuals with disabilities who need accommodation to participate in the workshop should contact Dr. Danielle Carlin at 919-541-1409 or danielle.carlin@nih.gov. TTY users should contact the Federal TTY Relay Service at 800-877-8339. Requests should be made at least 5 business days in advance of the event.

Dated: August 16, 2011.
Linda S. Birnbaum,
Director, National Institute of Environmental Health Sciences and National Toxicology Program.

[FR Doc. 2011-21688 Filed 8-23-11; 8:45 am]

BILLING CODE 4140-01-P